DEPARTMENT OF AGRICULTURE

Grain Inspection, Packers and Stockyards Administration

Proposed Posting and Posting of Stockyards

AGENCY: Grain Inspection, Packers and Stockyards Administration, USDA.

ACTION: Notice and request for comments.

SUMMARY: The Grain Inspection, Packers and Stockyards Administration (GIPSA) is taking several actions to post stockyards under the Packers and Stockyards Act (P&S Act). Specifically, we are proposing that eight stockyards now operating subject to the P&S Act be posted. We are also posting 15 stockyards that were identified previously as operating subject to the P&S Act.

DATES: For the proposed posting of stockyards, we will consider comments that we receive on or before November 1, 2016.

ADDRESSES: We invite you to submit comments on this notice. You may submit comments by any of the following methods:

• Internet: Go to http://www.regulations.gov. Follow the on-line instructions for submitting comments.

• Mail, hand delivery, or courier: R. Dexter Thomas, GIPSA, USDA, 1400 Independence Avenue SW., Room 2530-S, Washington, DC 20250-3604.

Instructions: All comments should refer to the date and page number of this issue of the Federal Register. The comments and other documents relating to this action will be available for public inspection during regular business hours.

FOR FURTHER INFORMATION CONTACT: Catherine M. Grasso, Program Analyst, Litigation and Economic Analysis Division at (202) 720-7201 or Catherine.m.grasso@usda.gov.

SUPPLEMENTARY INFORMATION: GIPSA administers and enforces the P&S Act of 1921, (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows: “. . . any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302 (b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary deposts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act, and therefore cannot be posted. A posted stockyard can be deposted, which occurs when the facility is no longer used as a stockyard.

We are hereby notifying stockyard owners and the public that the following eight stockyards meet the definition of a stockyard, and that we propose to designate these stockyards as posted stockyards.

Proposed facility No. | Stockyard name and location
KY-189 | Blue Grass Stockyards of Albany, LLC, Albany, Kentucky.
MS-181 | Cattlemens Stockyard, LLC, West Point, Mississippi.
NC-182 | Walton L. Standridge d/b/a Standridge Auction, Hamlet, North Carolina.
NC-183 | Vale Enterprises, LLC d/b/a Cleveland County Agriculture & Livestock Exchange, Shelby, North Carolina.
ND-134 | Bismarck Superior Livestock, LLP, Bismarck, North Dakota.
PA-164 | Nicholson Livestock Market, Factoryville, Pennsylvania.
SD-173 | Kramer's Auction, LLC, Colman, South Dakota.
TN-215 | Alexandria Stockyard, Inc., Alexandria, Tennessee.

We are also notifying the public that the stockyards listed in the following table meet the P&S Act's definition of a stockyard and that we have posted the stockyards. On July 27, 2015, we published a notice in the Federal Register (79 FR 41255-41256) of our proposal to post these 15 stockyards. Since we received no comments to our proposal, we assigned the stockyards a facility number and notified the owner of the stockyard facilities. Posting notices were sent to the owner of the stockyard to display in public areas of the stockyard. The table below reflects the date of posting for each stockyard.

Facility No. | Stockyard name and location | Date of posting
AR-184 | Mid-State Stockyards, LLC, Damascus, Arkansas. | 10/23/2015
AZ-119 | Arizona Livestock Auction, Buckeye, Arizona. | 12/16/2015
GA-236 | Trion Livestock Auction, LLC, Trion Georgia. | 10/23/2015
GA-237 | Deer Run Auction Co., Adel, Georgia. | 10/16/2015
KY-188 | Franklin Livestock Market, Inc., Franklin, Kentucky. | 10/19/2015
MO-289 | Archangel Outreach Ministries, Inc., d/b/a CRS & Highlandville Sales, Highlandville, Missouri. | 12/14/2015
MS-179 | Integrity Livestock Auction, LLC, Brookhaven, Mississippi. | 10/19/2015
MS-180 | Ramsey Livestock Sales, Inc., Vicksburg, Mississippi. | 12/11/2015
NC-181 | Flippin Chicken Auction & Sales, Beulaville, North Carolina. | 10/17/2015
OK-218 | JC Stockyards Auction, LLC, Meeker, Oklahoma. | 10/19/2015
TN-212 | WJ Auction Co., LLC, Telford, Tennessee. | 12/01/2015
TN-213 | Saddle Brook Stables, Jamestown, Tennessee. | 10/26/2015
TN-214 | Wiser Farms/Triple “M” Farms, Shelbyille, Tennessee. | 10/19/2015
TX-358 | Paris Livestock Auction, LLC, Paris, Texas. | 10/16/2015
UT-119 | Anderson Livestock Auction Co., Willard, Utah. | 10/19/2015

Authority: 7 U.S.C. 202.

Larry Mitchell,
Administrator, Grain Inspection, Packers and Stockyards Administration.

[FR Doc. 2016-25006 Filed 10-14-16; 8:45 am]

BILLING CODE 3410-KD-P